DEPARTMENT OF HOMELAND SECURITY

Coast Guard

[Docket No. USCG-2013-1065]

Towing Safety Advisory Committee; March 2014 meeting

AGENCY: Coast Guard, DHS.

ACTION: Notice of Federal advisory committee meeting.

SUMMARY: The Towing Safety Advisory Committee (TSAC) will meet in New Orleans, Louisiana on March 20, 2014, to review and discuss recommendations from its subcommittees and to receive briefs listed in the agenda under SUPPLEMENTARY INFORMATION. The subcommittees will meet on March 19, 2014, and work on nine assigned tasks listed in the referenced agenda. All meetings will be open to the public.

DATES: TSAC subcommittees will meet on Wednesday, March 19, 2014, from 7:30 a.m. to 5 p.m. The full TSAC Committee will meet on Thursday, March 20, 2014, from 7:30 a.m. to 5:30 p.m. These meetings may close early if the Committee has completed its business. All submitted written materials, comments, and requests to make oral presentations at the meetings should reach Lieutenant Commander William A. Nabach, Alternate Designated Federal officer (ADFO) for TSAC no later than March 10, 2014. For contact information, please see the FOR FURTHER INFORMATION CONTACT section below. Any written material submitted by the public will be distributed to the Committee and become part of the public record.

ADDRESSES: All meetings will be held at the Wyndham Riverfront New Orleans Bacchus Conference Room, 701 Convention Center Blvd., New Orleans, LA 70130.

For information on facilities or services for individuals with disabilities or to request special assistance at the meeting, contact the individuals listed in the FOR FURTHER INFORMATION CONTACT section, as soon as possible.

To facilitate public participation, we are inviting public comment on the issues to be considered by the committee as listed in the “Agenda” section below. Written comments must be submitted no later than March 10, 2014 and must be identified by Docket No. USCG-2013-1065 and may be submitted by one of the following methods:

• Federal Rulemaking Portal: http://www.regulations.gov. Follow the instructions for submitting comments. (Preferred method to avoid delays in processing).

• Mail: Docket Management Facility (M-30), U.S. Department of Transportation, West Building Ground Floor, Room W12-140, 1200 New Jersey Avenue SE., Washington, DC 20590-0001. We encourage use of electronic submissions because security screening may delay the delivery of mail.

• Fax: 202-493-2251.

• Hand delivery: Same as mail address above, between 9 a.m. and 5 p.m., Monday through Friday, except Federal holidays. The telephone number is 202-366-9329.

• To avoid duplication, please use only one of these methods.

Instructions: All submissions received must include the words “Department of Homeland Security” and the docket number of this notice. All comments submitted will be posted without alteration at http://www.regulations.gov including any personal information provided. You may review a Privacy Act notice regarding our public dockets in the January 17, 2008, issue of the Federal Register (73 FR 3316).

Docket: For access to the docket to read documents or comments related to this notice, go to http://www.regulations.gov, insert USCG-2013-1065 in the Search box, press Enter, and then click on the item you wish to view.

FOR FURTHER INFORMATION CONTACT: Commander Robert L. Smith Jr., Designated Federal Officer (DFO) for TSAC, Commandant (CG-OES-2), U.S. Coast Guard, 2703 Martin Luther King Jr. Ave. SE. Stop 7509, Washington, DC 20593-7509; telephone 202-372-1410, fax 202-372-8382, or email Robert.L.Smith@uscg.mil or Lieutenant Commander William A. Nabach, Alternate Designated Federal Officer (ADFO), TSAC; telephone (202) 372-1386, fax (202) 372-8382 or email william.a.nabach@uscg.mil. If you have any questions on viewing or submitting material to the docket, call Cheryl Collins, Program Manager, Docket Operations, telephone 202-366-9826.

SUPPLEMENTARY INFORMATION: Notice of this meeting is given under the Federal Advisory Committee Act (FACA), 5 U.S.C. Appendix (Pub. L. 92-463). TSAC is established in accordance with and operates under the provisions of the FACA. As stated in 33 U.S.C. 1231a, the Towing Safety Advisory Committee provides advice and recommendations to the Department of Homeland Security on matters relating to shallow-draft inland and coastal waterway navigation and towing safety.

Agenda of Meetings

The subcommittees will meet on March 19, 2014, from 7:30 a.m. to 5 p.m., to work on their specific task assignments:

(1) Recommendations Regarding Manning of Inspected Towing Vessels.

(2) Recommendations to Create Standardized Terminology for the Towing Industry.

(3) Recommendations for Evaluating Placement of Structures Adjacent to or Within the Navigable Channel.

(4) Recommendations for Designation of Narrow Channels.

(5) Recommendations for the Maintenance, Repair and Utilization of Towing Equipment, Lines and Couplings.

(6) Recommendations Regarding Steel Repair of Inspected Towing Vessels on Inland Service.

(7) Recommendations For Mid-Stream Liquefied Natural Gas and Compressed Natural Gas Refueling of Towing Vessels.

(8) Recommendations for Improvement of Coast Guard Marine Casualty Reporting.

(9) Recommendation to Establish Criteria for Identification of Air Draft for Towing Vessels and Tows.

On March 20, 2014, from 7:30 a.m. to 5:30 p.m., TSAC will meet to receive oral and written reports from its subcommittees on the following issues:

(1) Recommendations Regarding Manning of Inspected Towing Vessels. A progress update will be given.

(2) Recommendations to Create Standardized Terminology for the Towing Industry. A final report will be given.

(3) Recommendations for Evaluating Placement of Structures Adjacent to or Within the Navigable Channel. A final report will be given.

(4) Recommendations for Designation of Narrow Channels. A progress update will be given.

(5) Recommendations for the Maintenance, Repair and Utilization of Towing Equipment, Lines and Couplings. A progress update will be given.

(6) Recommendations Regarding Steel Repair of Inspected Towing Vessels on Inland Service. A final report will be given.

(7) Recommendations For Mid-Stream Liquefied Natural Gas and Compressed Natural Gas Refueling of Towing Vessels. A progress update will be given.

(8) Recommendations for Improvement of Coast Guard Marine Casualty Reporting. A progress update will be given.

(9) Recommendation to Establish Criteria for Identification of Air Draft for Towing Vessels and Tows. A progress update will be given.

There will be a comment period for TSAC and a comment period for the public after each final report presentation, but before each is voted on by the Committee. The Committee will review the information presented on each issue, deliberate on any recommendations presented in the subcommittees' reports, and formulate recommendations for the Department's consideration.

The Committee is scheduled to receive the following briefs:

(1) National Plan for Safety and Security of Especially Hazardous Cargo.

(2) U.S. Army Corps of Engineers Galveston District Set-back Standard Operating Procedures.

(3) Carriage of Shale Gas Extraction Wastewater in Bulk.

A copy of each draft report, presentation and the final agenda will be available at https://homeport.uscg.mil/tsac.

An opportunity for oral comments by the public will be provided during the meeting on March 20, 2014. Speakers are requested to limit their comments to 3 minutes. Please note that the public oral comment period may end before the end of the stated meeting times if the Committee has finished its business. Please contact Lieutenant Commander William A. Nabach, listed in the FOR FURTHER INFFORMATION CONTACT section to register as a speaker.

Minutes

Minutes from the meeting will be available for public review and copying within 90 days following the close of the meeting and can be accessed from the Coast Guard Homeport Web site http://homeport.uscg.mil/tsac.

Notice of Future 2014 TSAC Meetings

To receive automatic email notices of future TSAC meetings in 2014, go to the online docket, USCG-2013-1065 (http://www.regulations.gov/#!docketDetail;D=USCG-2013-1065), and select the sign-up-for-email-alerts option. We plan to use the same docket number for all TSAC meeting notices in 2014, so when the next meeting notice is published you will receive an email alert from www.regulations.gov when the notice appears in this docket.

Dated: February 25, 2014.
J.G. Lantz,
Director of Commercial Regulations and Standards.

[FR Doc. 2014-04561 Filed 2-28-14; 8:45 am]

BILLING CODE 9110-04-P